DEPARTMENT OF COMMERCE

International Trade Administration

[A-570-891]

Hand Trucks and Certain Parts Thereof From the People's Republic of China: Final Results and Final Rescission in Part, of Antidumping Duty Administrative Review

AGENCY: Import Administration, International Trade Administration, Department of Commerce.

DATES: Effective Date: June 21, 2011.

SUMMARY: On January 14, 2011, the Department of Commerce (the Department) published in the Federal Register the preliminary results of administrative review of the antidumping duty order on hand trucks and certain parts thereof from the People's Republic of China (PRC). See Hand Trucks and Certain Parts Thereof from the People's Republic of China: Preliminary Results of Antidumping Duty Administrative Review and Intent to Rescind in Part, 76 FR 2648 (January 14, 2011) (Preliminary Results). Based upon our analysis of the comments, we made changes to the margin calculations for the final results.

FOR FURTHER INFORMATION CONTACT: Fred Baker, Scott Hoefke, or Robert James, AD/CVD Operations, Office 7, Import Administration, International Trade Administration, U.S. Department of Commerce, 14th Street and Constitution Avenue, NW., Washington, DC 20230; telephone: (202) 482-2924, (202) 482-4947 or (202) 482-0649, respectively.

SUPPLEMENTARY INFORMATION:

Background

On January 14, 2011, the Department published the preliminary results of administrative review of the antidumping duty order on hand trucks and certain parts thereof from the PRC. On February 3, 2011, Gleason Industrial Products, Inc., and Precision Products, Inc. (petitioners) and New-Tec Integration (Xiamen) Co., Ltd. (New-Tec) submitted additional surrogate value (SV) information. On February 14, 2011, New-Tec submitted rebuttal comments on the surrogate value information petitioners submitted on February 3. On February 17, 2011, petitioners submitted rebuttal comments on the surrogate value information New-Tec submitted on February 3, 2011. On February 28, 2011, New-Tec submitted factual information to rebut, clarify, or correct the factual information submitted by the petitioners on February 17, 2011.

In the preliminary results, the Department invited interested parties to submit case briefs within 30 days of publication of the preliminary results and rebuttal briefs within five days after the due date for filing case briefs. See Preliminary Results, 76 FR at 2654. On January 21, 2011, the Department extended the due date for case briefs and rebuttal briefs by one week. We received a case brief from petitioners on February 22, 2011, and rebuttal briefs from New-Tec and Cosco Home and Office Products, a U.S. importer, on March 1, 2011.

On February 14, 2011, petitioners also submitted comments on the Department's preliminary intent to rescind the review with respect to Yangjiang Shunhe Industrial Co. (Yangjiang Shunhe). Also on February 14, 2011, petitioners requested the Department hold a public hearing to discuss the preliminary results. Petitioners withdrew their request for a hearing on March 9, 2011. Therefore, we did not hold a hearing.

Analysis of Comments Received

All issues raised in the case and rebuttal briefs by parties to this review are addressed in the memorandum entitled, “Hand Trucks and Certain Parts Thereof From the People's Republic of China: Issues and Decision Memorandum for the Final Results of 2008-2009 Administrative Review,” which is dated concurrently with and adopted by this notice (Decision Memorandum). A list of the issues which parties raised, and to which we respond in the Decision Memorandum is attached to this notice as an Appendix. The Decision Memorandum is a public document, and is on file in the Central Records Unit (CRU), Main Commerce Building, Room 7046, and is accessible on the Department's Web site at http://www.trade.gov/ia. The paper copy and electronic version of the memorandum are identical in content.

Period of Review

The period of review (POR) is December 31, 2008, through November 30, 2009.

Scope of the Order

The merchandise subject to this antidumping duty order consists of hand trucks manufactured from any material, whether assembled or unassembled, complete or incomplete, suitable for any use, and certain parts thereof, namely the vertical frame, the handling area and the projecting edges or toe plate, and any combination thereof. A complete or fully assembled hand truck is a hand-propelled barrow consisting of a vertically disposed frame having a handle or more than one handle at or near the upper section of the vertical frame; at least two wheels at or near the lower section of the vertical frame; and a horizontal projecting edge or edges, or toe plate, perpendicular or angled to the vertical frame, at or near the lower section of the vertical frame. The projecting edge or edges, or toe plate, slides under a load for purposes of lifting and/or moving the load.

That the vertical frame can be converted from a vertical setting to a horizontal setting, then operated in that horizontal setting as a platform, is not a basis for exclusion of the hand truck from the scope of this petition. That the vertical frame, handling area, wheels, projecting edges or other parts of the hand truck can be collapsed or folded is not a basis for exclusion of the hand truck from the scope of the petition. That other wheels may be connected to the vertical frame, handling area, projecting edges, or other parts of the hand truck, in addition to the two or more wheels located at or near the lower section of the vertical frame, is not a basis for exclusion of the hand truck from the scope of the petition. Finally, that the hand truck may exhibit physical characteristics in addition to the vertical frame, the handling area, the projecting edges or toe plate, and the two wheels at or near the lower section of the vertical frame, is not a basis for exclusion of the hand truck from the scope of the petition.

Examples of names commonly used to reference hand trucks are hand truck, convertible hand truck, appliance hand truck, cylinder hand truck, bag truck, dolly, or hand trolley. They are typically imported under heading 8716.80.50.10 of the Harmonized Tariff Schedule of the United States (HTSUS), although they may also be imported under heading 8716.80.50.90. Specific parts of a hand truck, namely the vertical frame, the handling area and the projecting edges or toe plate, or any combination thereof, are typically imported under heading 8716.90.50.60 of the HTSUS. Although the HTSUS subheadings are provided for convenience and customs purposes, the Department's written description of the scope is dispositive.

Excluded from the scope are small two-wheel or four-wheel utility carts specifically designed for carrying loads like personal bags or luggage in which the frame is made from telescoping tubular materials measuring less than ⅝ inch in diameter; hand trucks that use motorized operations either to move the hand truck from one location to the next or to assist in the lifting of items placed on the hand truck; vertical carriers designed specifically to transport golf bags; and wheels and tires used in the manufacture of hand trucks.

Changes Since the Preliminary Results

Based on a review of the record and comments received from parties regarding our Preliminary Results, we have made revisions to certain SVs and the margin calculation for New-Tec in these final results. We made the following changes:

• We used the 2009-10 financial statement of Rexello Castors Private, Ltd., for calculating financial ratios;

• We revised our calculation of brokerage and handling to take into account the weight of the hand truck.

Separate Rates Determination

In our Preliminary Results, we determined that New-Tec met the criteria for separate rate status. We have not received any information since issuance of the preliminary results that provides a basis for reconsidering this preliminary determination. Therefore, the Department continues to find that New-Tec meets the criteria for a separate rate.

Final Partial Rescission

In the Preliminary Results, the Department preliminarily rescinded this review with respect to Yangjiang Shunhe and Century Distribution Systems, Inc. (Century Distribution) because the Department preliminarily determined that they had no shipments of subject merchandise to the United States during the POR. On February 14, 2011, petitioners submitted comments alleging that there was substantial evidence on the record that Yangjiang Shunhe did have shipments of subject merchandise to the United States during the POR. We have addressed petitioners' comments in the Decision Memorandum at Comment 9. Based on our review of the record we affirm our previous determination that there is no record evidence that Yangjiang Shunhe had shipments of subject merchandise to the United States during the POR. Thus, in accordance with 19 CFR 351.213(d)(3), and consistent with our practice, we are rescinding this review with respect to Yangjiang Shunhe and Century Distribution.

Use of Adverse Facts Available (AFA)

In accordance with section 776(b) of the Act, we determine that the use of AFA as the basis for the weighted-average dumping margin is appropriate for the PRC-wide entity. As explained in the Preliminary Results, Sunshine International Corporation (Sunshine International), Zhejiang Yinmao Import and Export Co. (Zhejiang Yinmao), and Qingdao Huazhan Hardware and Machinery Co., Ltd. (Qingdao Huazhan), did not submit any information on the record regarding their separate-rate status, and did not respond to requests for information from the Department. As such, they have not rebutted the presumption of PRC-government control, and do not qualify for a separate rate. Therefore, the Department continues to find that they should be treated as part of the PRC-wide entity.

Because we have determined that Sunshine International, Zhejiang Yinmao, and Qingdao Huazhan are part of the PRC-wide entity, the PRC-wide entity is under review. Pursuant to section 776(a)(2)(A) and (C) of the Act, we find that Sunshine International, Zhejiang Yinmao, and Qingdao Huazhan failed to respond to the Department's questionnaires, withheld information requested by the Department, and impeded the conduct of this review. Accordingly, the Department continues to find that it is appropriate to base the dumping margin of the PRC-wide entity on the facts otherwise available on the record. Further, because the failure of Sunshine International, Zhejiang Yinmao, and Qingdao Huazhan to provide requested information constitutes circumstances under which it is reasonable to conclude that less than full cooperation has been shown, pursuant to section 776(b) of the Act, the Department has determined that, when selecting from among the facts otherwise available, an adverse inference is warranted with respect to the PRC-wide entity. See Preliminary Results, 76 FR at 2653.

As AFA, we have assigned 383.60 percent to the PRC-wide entity. This rate was assigned in the less-than-fair-value investigation of this proceeding, and is the highest rate determined for any party in any segment of this proceeding. Furthermore, as required by section 776(c) of the Act, we corroborated this margin with respect to the PRC-wide entity, to the extent practicable. For a detailed explanation of how we corroborated this margin, see Preliminary Results, 76 FR at 2654.

Final Results of the Review

The Department has determined that the following margin exists for the period December 1, 2008, through November 30, 2009:

Exporter | Weighted- average margin (percent)
New-Tec Integration (Xiamen) Co., Ltd | 0.00
PRC-wide Entity | 383.60

Assessment Rates

Consistent with these final results, and pursuant to section 751(a)(2)(B) of the Act and 19 CFR 351.212(b)(1), the Department will direct CBP to assess antidumping duties on all appropriate entries. The Department will issue appropriate assessment instructions to CBP 15 days after the date of publication of the final results of this review. Pursuant to 19 CFR 351.212(b)(1), we calculated importer-specific ad valorem duty assessment rates based on the ratio of the total amount of the dumping margins calculated for the examined sales to the total entered value of those same sales. We will instruct CBP to assess antidumping duties on all appropriate entries covered by this review if any importer-specific assessment rate calculated in the final results of this review is above de minimis.

Cash Deposit Requirements

The following cash deposit requirements, when imposed, will be effective upon publication of the final results of this review for all shipments of subject merchandise entered, or withdrawn from warehouse, for consumption on or after the publication date, as provided by section 751(a)(2)(C) of the Act: (1) The cash-deposit rate for each of the reviewed companies that received a separate rate in this review will be the rate listed in the final results of this review (except that if the rate for a particular company is de minimis, i.e., less than 0.5 percent, no cash deposit will be required for that company); (2) for previously investigated companies not listed above, the cash deposit rate will continue to be the company-specific rate published for the most recent period of review; (3) if the exporter is a firm not covered in this review, a prior review, or the original less-than-fair-value investigation, but the manufacturer is, the cash deposit rate will be the rate established for the most recent period for the manufacturer of the subject merchandise; and (4) the cash deposit rate for all other manufacturers or exporters will be the PRC-wide rate of 383.60 percent. These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

Administrative Protective Order

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: June 13, 2011.
Ronald K. Lorentzen,
Deputy Assistant Secretary for Import Administration.

Appendix

Comment 1. Whether to Value Certain Inputs Using Purchases from Market-Economy Suppliers.

Comment 2. Use of Godrej & Boyce Manufacturing Co., Ltd. (Godrej & Boyce) Financial Statements.

Comment 3. Use of the 2009-2010 Financial Statements of Rexello Castors Private Ltd. (Rexello).

Comment 4. 2004-2005 Financial Statements of Rexello and 2006-2007 Financial Statements of Infiniti Modules Private Ltd. (Infinite Modules).

Comment 5. Surrogate Value for Hot-Rolled Steel.

Comment 6. Sample Sales.

Comment 7. Whether to Deduct Warranty Expenses from U.S. Price.

Comment 8. Whether to Revise the Calculation of Domestic Brokerage and Handling Expenses.

Comment 9. Whether to Rescind the Review with Respect to Yangjiang Shunhe Industrial Co.

[FR Doc. 2011-15448 Filed 6-20-11; 8:45 am]

BILLING CODE 3510-DS-P